DEPARTMENT OF COMMERCE

Foreign-Trade Zones Board

[Order No. 1135]

Expansion of Foreign-Trade Zone 46, Cincinnati, OH Area

Pursuant to its authority under the Foreign-Trade Zones Act (the Act) of June 18, 1934, as amended (19 U.S.C. 81a-81u), the Foreign-Trade Zones Board (the Board) adopts the following Order:

WHEREAS, the Greater Cincinnati Foreign Trade Zone, Inc. (GCFTZ), grantee of FTZ 46, submitted an application to the Board for authority to expand FTZ 46—Site 3 (Clermont County Industrial Park) to include three additional parcels (FTZ Doc. 44-2000, filed 7-27-00);

WHEREAS, notice inviting public comment was given in the Federal Register (64 FR 47712, 8-3-00) and the application has been processed pursuant to the FTZ Act and the Board's regulations; and,

WHEREAS, the Board adopts the findings and recommendations of the examiner's report, and finds that the requirements of the Act and the Board's regulations are satisfied, and that the proposal is in the public interest;

NOW, THEREFORE, the Board hereby authorizes the grantee to expand its zone as requested in the application, subject to the Act and the Board's regulations, including Section 400.28.

Signed at Washington, DC, this 29th day of December 2000.
Richard W. Moreland,
Acting Assistant Secretary of Commerce for Import Administration, Alternate Chairman, Foreign-Trade Zones Board.
Pierre V. Duy,
Acting Executive Secretary.

[FR Doc. 01-1383 Filed 1-16-01; 8:45 am]

BILLING CODE 3510-DS-P